DEPARTMENT OF ENERGY

Federal Energy Regulatory Commission

[Docket No. CP10-51-000]

Eastern Shore Natural Gas Company; Notice of Request Under Blanket Authorization

February 17, 2010.

Take notice that on February 2, 2010, Eastern Shore Natural Gas Company (Eastern Shore), 1110 Forrest Avenue, Dover, Delaware 19904, filed in Docket No. CP10-51-000, a prior notice request under its blanket certificate issued in Docket No. CP96-128-000 pursuant to sections 157.205(b), 157.208(c) and 157.210 of the Commission's regulations under the Natural Gas Act (NGA) for authority to construct, own, operate, and maintain new mainline facilities and install a new pressure control station in Sussex County, Delaware, in order to deliver an additional firm transportation service entitlement of 1,600 dekatherms per day to Chesapeake Utilities Corporation—Maryland Division, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Any questions regarding the application should be directed to Glen DiEleuterio, Project Manager, Eastern Shore Natural Gas Company, 1110 Forrest Avenue, Dover, Delaware 19904, at (302) 734-6710, ext. 6723 or via fax (302) 734-6745 or by e-mail to GDiElcutcrio@esng.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. 2010-3626 Filed 2-23-10; 8:45 am]

BILLING CODE 6717-01-P